DEPARTMENT OF COMMERCE

International Trade Administration

[C-580-837]

Cut-to-Length Carbon-Quality Steel Plate From the Republic of Korea: Final Results of Countervailing Duty Administrative Review; 2012

AGENCY: Enforcement and Compliance, International Trade Administration, Department of Commerce.

SUMMARY: The Department of Commerce (the Department) completed the administrative review of the countervailing duty (CVD) order on cut-to-length carbon-quality steel plate (CTL Plate) from the Republic of Korea for the January 1, 2012, through December 31, 2012, period of review (POR) in accordance with section 751(a) of the Tariff Act of 1930, as amended (the Act). This review covers multiple exporters/producers, one of which is being individually examined as a mandatory respondent. We determine that Dongkuk Steel Mill Co., Ltd. (DSM) received a de minimis net subsidy rate during the POR. We have used DSM's total net subsidy rate as the rate for the remaining five companies subject to review. Additionally, the Department has rescinded the review of five companies that timely certified that they had no shipments of subject merchandise to the United States during the POR. Our analysis of comments received is contained in the Decision Memorandum accompanying this Federal Register notice.¹ The final net subsidy rates are listed below in the “Final Results of Review” section. These subsidy rates are unchanged from the Preliminary Results.²

¹ See “Decision Memorandum for the Final Results of 2012 Countervailing Duty Administrative Review: Cut-to-length Carbon-Quality Steel Plate from the Republic of Korea,” from Gary Taverman, Senior Advisor for Antidumping and Countervailing Duty Operations, to Paul Piquado, Assistant Secretary for Enforcement and Compliance (Decision Memorandum), dated concurrently and hereby adopted by this notice.

² See Certain Cut-to-Length Carbon-Quality Steel Plate from the Republic of Korea: Preliminary Results of Countervailing Duty Administrative Review; 2012, 79 FR 16283 (March 25, 2014) (Preliminary Results), and accompanying Issues and Decision Memorandum, dated March 18, 2014 (Preliminary Decision Memorandum).

DATES: Effective Date: August 11, 2014.

FOR FURTHER INFORMATION CONTACT: John Conniff at 202-482-1009, AD/CVD Operations, Office III, Enforcement and Compliance, International Trade Administration, U.S. Department of Commerce, 14th Street and Constitution Avenue NW., Washington, DC 20230.

SUPPLEMENTARY INFORMATION:

Background

On February 10, 2000, the Department published in the Federal Register the CTL Plate Order.³ On February 1, 2013, the Department published a notice of opportunity to request an administrative review of this CVD order.⁴ On March 25, 2014, the Department published its preliminary results of review of the CVD order on CTL Plate from the Republic of Korea for the POR.⁵

³ See Notice of Amended Final Determination: Certain Cut-to-Length Carbon-Quality Steel Plate From India and the Republic of Korea; and Notice of Countervailing Duty Orders: Certain Cut-to-Length Carbon-Quality Steel Plate from France, India, Indonesia, Italy, and the Republic of Korea, 65 FR 6587 (February 10, 2000) (CTL Plate Order).

⁴ See Antidumping or Countervailing Duty Order, Finding, or Suspended Investigation; Opportunity to Request Administrative Review, 78 FR 7397 (February 1, 2013).

⁵ See Preliminary Results, 79 FR 16283 and Preliminary Decision Memorandum.

The Department received one case brief from Samsung C&T Corp (Samsung) regarding its decision not to rescind Samsung from the administrative review.

Scope of the Order

The products covered by the order are certain hot-rolled carbon-quality steel: (1) Universal mill plates (i.e., flat-rolled products rolled on four faces or in a closed box pass, of a width exceeding 150 mm but not exceeding 1250 mm, and of a nominal or actual thickness of not less than 4 mm, which are cut-to-length (not in coils) and without patterns in relief), of iron or non-alloy-quality steel; and (2) flat-rolled products, hot-rolled, of a nominal or actual thickness of 4.75 mm or more and of a width which exceeds 150 mm and measures at least twice the thickness, and which are cut-to-length (not in coils).

The merchandise subject to the order is currently classifiable in the HTSUS under subheadings: 7208.40.3030, 7208.40.3060, 7208.51.0030, 7208.51.0045, 7208.51.0060, 7208.52.0000, 7208.53.0000, 7208.90.0000, 7210.70.3000, 7210.90.9000, 7211.13.0000, 7211.14.0030, 7211.14.0045, 7211.90.0000, 7212.40.1000, 7212.40.5000, 7212.50.0000, 7225.40.3050, 7225.40.7000, 7225.50.6000, 7225.99.0090, 7226.91.5000, 7226.91.7000, 7226.91.8000, 7226.99.0000.

Although the HTSUS subheadings are provided for convenience and customs purposes, the written description of the merchandise covered by the order is dispositive.⁶

⁶ See Decision Memorandum for a complete description of the scope of the order.

Methodology

The Department conducted this review in accordance with section 751(a)(1)(A) of the Act. For each of the subsidy programs found countervailable during the POR, we determine that there is a subsidy, i.e., a government-provided financial contribution that confers a benefit to the recipient, and that the subsidy is specific. See sections 771(5)(B) and (D) of the Act regarding financial contribution; section 771(5)(E) of the Act regarding benefit; and section 771(5A) of the Act regarding specificity. For a complete description of the methodology, see the Decision Memorandum.

Analysis of Comments Received

All issues raised in Samsung's case brief, the only case brief submitted in this proceeding, are addressed in the Decision Memorandum. A list of the issues which Samsung raised, and to which we responded in the Decision Memorandum, is attached to this notice as Appendix I. The Decision Memorandum is a public document and is on file electronically via Enforcement and Compliance's Antidumping and Countervailing Duty Centralized Electronic Service System (IA ACCESS). IA ACCESS is available to registered users at http://iaaccess.trade.gov, and is available to all parties in the Central Records Unit, room 7046 of the main Commerce building. In addition, a complete version of the Decision Memorandum can be accessed directly at http://enforcement.trade.gov/frn/index.html. The signed Decision Memorandum and the electronic versions of the Decision Memorandum are identical in content.

Rescission of Administrative Review

Between April 10 and May 23, 2013, we received timely-filed no shipment certifications from Daewoo International Corp. (Daewoo), Dongbu Steel Co., Ltd. (Dongbu), GS Global Corp. (GS Global), Hyosung Corporation (Hyosung), and Hyundai Steel Co. (Hyundai). Because these companies timely filed no shipment certifications and there is no evidence on the record to indicate that these companies had sales of subject merchandise during the POR, pursuant to 19 CFR 351.213(d)(3), the Department is rescinding the review with respect to Daewoo, Dongbu, GS Global, Hyosung, and Hyundai.

Final Results of Review

In accordance with 19 CFR 351.221(b)(4)(i), we calculated an individual subsidy rate for the mandatory respondent, DSM. Because DSM is the sole, mandatory respondent, we assigned to those companies not selected for individual review, the rate calculated for DSM. As a result of this review, we determine the listed net subsidy rates for 2012:

Company | 2012 Ad valorem rate
Dongkuk Steel Mill Co., Ltd | 0.11% de minimis.
Edgen Murray Corporation | de minimis.
Kyoungil Col., Ltd. | de minimis.
Samsung C&T Corporation | de minimis.
Samwoo EMC Co., Ltd. | de minimis.
TCC Steel Corp. | de minimis.

Assessment Rates/Cash Deposits

In accordance with 19 CFR 351.212(b)(2), the Department intends to issue assessment instructions to U.S. Customs and Border Protection (CBP) 15 days after the date of publication of these final results of review to liquidate shipments of subject merchandise by respondents entered, or withdrawn from warehouse, for consumption on or after January 1, 2012, through December 31, 2012, without regard to CVDs because a de minimis subsidy rate was calculated for each company as the ad valorem assessment rate listed above. We will also instruct CBP to continue to suspend liquidation but to collect no cash deposits of estimated CVDs on shipments of the subject merchandise by the companies listed above entered, or withdrawn from warehouse, for consumption on or after the date of publication of the final results of review.

For the companies for which this review is rescinded, countervailing duties shall be assessed at rates equal to the cash deposit of estimated countervailing duties required at the time of entry, or withdrawal from warehouse, for consumption, during the period January 1, 2012, through December 31, 2012, in accordance with 19 CFR 351.2129(c)(1)(i).

For all non-reviewed companies, we will instruct CBP to continue to collect cash deposits at the most recent company-specific or country-wide rate applicable to the company. Accordingly, the cash deposit rates that will be applied to companies covered by this order, but not examined in this review, are those established in the most recently completed administrative proceeding for each company. The cash deposit rates for all companies not covered by this review are not changed by the results of this review, and remain in effect until further notice.

Return or Destruction of Proprietary Information

This notice also serves as a reminder to parties subject to administrative protective order (APO) of their responsibility concerning the disposition of proprietary information disclosed under APO in accordance with 19 CFR 351.305(a)(3). Timely written notification of the return/destruction of APO materials or conversion to judicial protective order is hereby requested. Failure to comply with the regulations and the terms of an APO is a sanctionable violation.

We are issuing and publishing these final results in accordance with sections 751(a)(1) and 777(i)(1) of the Act.

Dated: August 5, 2014.
Paul Piquado,
Assistant Secretary for Enforcement and Compliance.

Appendix

I. Summary

II. Period of Review

III. Scope of the Order

IV. Rescission of Administrative Review With Respect to Certain Companies

V. Non-Selected Rate

VI. Attribution of Subsidies

VII. Analysis of Programs

VIII. Analysis of Comments

Comment 1: Whether It Is Appropriate to Assign Samsung a Non-Selected Respondent Rate

IX. Recommendation

[FR Doc. 2014-18950 Filed 8-8-14; 8:45 am]

BILLING CODE 3510-DS-P